DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of January and February, 2003.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-42,091; Disa Industries, Holly, MI

TA-W-42,245; La Grange Foundry, Inc., La Grange, MO

TA-W-41,579; Delphi Energy and Chassis, Dayton, OH

TA-W-42,100; Savane International, Fabric Cutting Facility, El Paso, TX

In the following case, the investigation revealed that the criteria for eligibility have not been met for the reasons specified.

Increased imports did not contribute importantly to worker separations at the firm.

TA-W-41,369; Saint-Gobain Abrasives, Inc. (formerly Norton Co.), Bonded Abrasives Div., Worcester, MA

In the following cases, the investigation revealed that the criteria for eligibility have not been met for the reasons specified.

The investigation revealed that criterion (a)(2)(A) (I.B.) (No Sales or Production declines) and (a) (2)(B) (II.B) (No shift in production to a foreign country) have not been met.

TA-W-50,300; Nexfor/Fraser Papers, Levesque Operations, Ashland, ME

TA-W-50,371; Nestle USA, Confections and Snacks, Fulton, NY

The investigation revealed that criterion (a)(2) (I.A.) (No employment declines) and (a)(2)(B) (No shift in Production to a foreign country) have been met.

TA-W-50,559; Mercury Marine, Capitol Engineering Div., Brookfield, WI

TA-W-50,559; Mercury Marine, Capitol Engineering Div., Brookfield, WI

The investigation revealed that criterion (1) has not been met. A significant number or proportion of the workers did not become totally or partially separated from employment as required for certification.

TA-W-50,177; Talley Metals Technology, Inc., McBee, SC

The investigation revealed that criterion (a)(2)(A) (I.C.) (Increased imports) and (a)(2)(B) (II.B) (No shift in production to a foreign country) have not been met.

TA-W-50,314; Electroglas, Inc., San Jose, CA

TA-W-50,439; Tresco Tool, Inc., Guys Mills, PA

TA-W-50,421; Alpine Molding, Inc., an Affiliate of May and Scofield, Inc., Gaylord, MI

TA-W-50,453; Atlas Copco Wagner, Inc., Portland, OR

TA-W-50,366; Agere Systems, Inc., Optoelectronics Div., formerly Lucent Technologies, Inc., Microelectronics Business, Breinigsville, PA

TA-W-50,225; Unitek Electronics, Inc., Portland, OR

TA-W-50,288; Lancaster Malleable Castings Co., Lancaster, PA

TA-W-50,247; Holland USA, The Denmark Facility, Denmark, SC

TA-W-50,233; Bombardier Mass Transit Corp., a wholly owned subsidiary of Bombardier Corp., Barre, VT

TA-W-50,079; ITT Industries, Searcy, AR

TA-W-50,452; Spectrum Field Services, In., Valma Gas Plant, Tulsa, OK

TA-W-50,683; Decibel Products, Dallas, TX

YA-W-50,016; Laid Technologies, Delaware Watergap, PA

TA-W-50,074; Summit Manufacturing, LLC, West Hazleton, PA

TA-W-50,148; Newark Atlantic Paperboard Co., Mill Div., Lawrence, MA

TA-W-50,209 & A; Facemate Corp., Greenwood, SC and Greenville, SC

TA-W-50,234; BiPhase Technologies, LLC, Lake Lillian, MN

TA-W-50,354; Red Wing Shoe Co., Inc., Including Temporary Workers of Workforce Employment Solution and Manpower, Inc., Potosi, MO

TA-W-50,468; Textron, Cushman, Inc., Lincoln, NE

TA-W-50,291; Intelicoat Technologies Image Products, a subsidiary of Intelicoat Technologies Image Products Holco LLC, Spartanburg, SC

TA-W-50,342; Pechiney Plastic Packaging, Graphics Center, Neenah, WI

The workers firm does not produce an article as required for certification under Section 222 of the Trade Act of 1974.

TA-W-50,547; Byrd Motor Line, Inc., Lexington, NC

TA-W-50,523; Computer Sciences Corp., Global Infrastructure Services (/GIS), Newark Data Center, Newark, DE

TA-W-50.534; Corning Cable Systems, LLC, Research, Development, and Engineering (RD&E), Hickory, NC

TA-W-50,508; Nortel Networks, Qtera/Operations, Richardson, TX

TA-W-50,432; Angus Consulting Management, Inc., a wholly owned subsidiary of Angus Consulting Management Ltd, Alpharetta, GA

TA-W-50,302; Union Tank Car Co., a subsidiary of The Marmon Group, Inc., East Chicago, IN

TA-W-50,595; Consolidated Freightways, Akron, Ohio

TA-W-50,477; Fleming Companies, Inc., Altoona, PA

TA-W-42,155; The Franklin Mint, Franklin Center, PA

TA-W-50,529; Enterasys Networks, Inc., Salt Lake City, UT

TA-W-50,563; Plexus Corp., Security Department, Neenah, WI

TA-W-50,588; Murray Engineering, Inc., Complete Design Service, Flint, MI

The investigation revealed that criteria (2) has not been met. The workers' firm (or subdivision) is not an upstream supplier of components for trade-affected companies.

TA-W-50,535; North American Container Corp., Fond du Lac, WI

TA-W-50,222 &A; Great Northern Tool and Die, Plant #1, Chesterfield, MI and Plant #2, Chesterfield, MI

Affirmative Determinations for Worker Adjustment Assistance

The following certifications have been issued; the date following the company name and location of each determination references the impact date for all workers of such determination.

TA-W-42,289; Interlake Material Handling, Inc., Pontiac Manufacturing Plant, Pontiac, IL: February 10, 2001.

TA-W-41,912; ADC Telecommunications, 5655 Eleventh Avenue East, Shakopee, MN: August 5, 2001.

TA-W-42,284; Custom Forest Products, Inc., Grayling, MI: October 8, 2001.

TA-W-42,265; Charles Navasky and Co., Philipsburg, PA: October 2, 2001.

TA-W-42,265A, B; Streamline Fashions, Philipsburg, PA and Northside Manufacturing, Philipsburg, PA: November 3, 2002.

The following certifications have been issued. The requirements of (a)(2)(A) (increased imports) of Section 222 have been met.

TA-W-50,661; Swank, Inc., Norwalk, CT: January 17, 2002.

TA-W-50,373; Chautauqua Hardware Corp., Jamestown, NJ: December 12, 2001.

TA-W-50,347 & A; Rayovac Corp., Manufacturing and Distribution Div., Madison, WI and Middleton, WI: December 9, 2001.

TA-W-50,412; Hayes Lemmerz International, Inc., Bowling Green Plant, a Div. of North American Wheel Group, Bowling Green, KY: December 20, 2001.

TA-W-50,408; Best Manufacturing, a Division of Tillotson Corp., Johnson City, TN: November 22, 2001.

TA-W-50,583; Ingersoll-Rand, Gerwin/Ives Plant, Michigan City, IN: January 8, 2002.

TA-W-50,384; National Forge Co., Irvine, PA: December 14, 2001.

TA-W-50,326; Jordan Fashions, New York, NY: December 12, 2001.

TA-W-50,092; KUS, Inc., a/k/a Karl Schmidt Unisia, Inc., Building Number One, Fort Wayne, IN: November 14, 2001.

TA-W-50,336; Rhodes Collections, Inc., Garland, TX: December 6, 2001.

TA-W-50,493; Moltech Power Systems, a Subsidiary of Moltech Holding Corp., Gainesville, FL: December 12, 2002.

TA-W-50,218; United Sewing Apparel, Inc., Skillstaff, Inc., Etowah, TN: November 27, 2001.

TA-W-50,266; Parker Hannifin, Hydraulic Valve Div., a Div. of Parker Hannifin Co., formerly Dana Corp., Minneapolis, MN: December 4, 2001.

TA-W-50,479; Eastman Kodak Co., One Time Use Camera Plant, Including Leased Workers of Adecco Temporary Services, Rochester, NY: December 20, 2001.

TA-W-50,483; CNH Global, N.V., Construction Equipment Div., Burlington, IA: January 2, 2002.

TA-W-50,474; Store Kraft Manufacturing, Greenwood Fixture Div., Including Leased Workers of TEC, Greenwood, AR: January 2, 2002.

TA-W-50,419; Armstrong World Industries, Inc., Lancaster Floor Plant, Lancaster, PA: December 20, 2001.

TA-W-50,576; Great Northern Paper Co., Inc., East Millinocket, ME: January 14, 2002.

TA-W-50,125; Ovalstrappong, Inc., Hoquiam, WA: November 13, 2001.

TA-W-50,495; Massillon Stainless, Inc., Massillon, OH: January 3, 2002.

TA-W-50,249; Alpha Mills Corp., Annville, PA: December 2, 2001.

TA-W-50,500; Creative Die Mold, Glendale Heights, IL: January 3, 2002.

The following certifications have been issued. The requirements of (a)(2)(B) (shift in production) of Section 222 have been met.

TA-W-50,568; SMTC Manufacturing Corp. of North Carolina, Including Leased Workers of Chase Staffing and Adecco, Charlotte, NC: January 15, 2002.

TA-W-50,374; SPX Valves and Controls, Div. of SPX Corp., Lake City, PA: December 11, 2001.

TA-W-50,390; The Goodyear Tire and Rubber Corp., Engineered Products Div., Lincoln, NE: December 18, 2001.

TA-W-50,433; Fun-Tees, Inc., Andrews, SC: December 20, 2001.

TA-W-50,388; Pasminco Zinc, Inc., Gordonsville, TN: December 18, 2001.

TA-W-50,172; Applied Films Corp., Longmont, CO: November 19, 2001.

TA-W-50,548; Gilster Mary Lee Corp., Wilson, AR: January 10, 2002.

TA-W-50,536; Lacers Sport, Inc., a/k/a Diport USA, Miami, FL: December 31, 2001.

TA-W-50,528; Celestica Corp., Midwest Campus, Rochester, MN: January 7, 2002.

TA-W-50,510; Goodrich Corp., Aircraft Interior Products, Spencer, WV: December 30, 2001.

TA-W-50,501; H.G. Winter and Sons, Inc., Kingfield, ME: January 3, 2002.

TA-W-50,286; Indiana Glass Co., Dunkirk, IN: December 6, 2001.

TA-W-50,315; Capital City Press, Inc., Barre, VT: December 10, 2001.

TA-W-50,409; International Comfort Products Corp. (USA), a wholly owned subsidiary of United Technologies Corp., and an affiliate of Carrier Corp., Lewisburg, TN: December 5, 2001.

TA-W-50,653; Tsuda Surface Technologies, Inc., Henderson, NE: January 14, 2002.

TA-W-50,612; O. Mustad and Son, Inc., Auburn, NY: January 6, 2002.

TA-W-50,123; Garden State Tanning, Inc., Fleetwood, PA: November 4, 2001.

TA-W-50,613; Foamex, L.P., Milan, TN: January 1, 2002.

TA-W-50,539; Arden Companies, Kendallville Facility, Kendallville, IN: January 9, 2002

TA-W-50,570; All U Can Handle, A Div. of Perlora, Inc., Pittsburgh, PA: January 10, 2002.

TA-W-50,446; Ericson, Inc., Messaging Group, Woodbury, NY: December 18, 2001.

TA-W-50,164; Sunbeam Corp., Inc., Outdoor Cooking Div., Neosho, MO: November 18, 2001.

TA-W-50,219; Maytag Corp., Maytag Appliances, Newton, IA: November 27, 2001.

TA-W-50,327; JO LA Foundation, Sewing and Cutting Operations, Brooklyn, NY: December 9, 2001.

TA-W-50,376; Medtronic Perfusion Systems, Anaheim Hills, CA: December 15, 2001.

The following certification has been issued. The requirement of upstream supplier to trade certified primary firm has been met.

TA-W-50,131; Lear Corp., Interior Systems Div., Carlisle, PA: November 11, 2001.

TA-W-50543; Prime Manufacturing Co., Lynn, MA: January 13, 2002.

TA-W-50,587; Moll Industries, Davie, FL: November 22, 2001.

Also, pursuant to Title V of the North American Free Trade Agreement Implementation Act (Pub. L. 103-182) concerning transitional adjustment assistance hereinafter called (NAFTA-TAA) and in accordance with Section 250(a), Subchaper D, Chapter 2, Title II, of the Trade Act as amended, the Department of Labor presents summaries of determinations regarding eligibility to apply for NAFTA-TAA issued during the month of January and February 2003.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-07587; Groupe Carbone Lorraine, Astro Cosmos Metallurgical, Inc., Wooster, OH

NAFTA-TAA-06481; Savane International, Fabric Cutting Facility, El Paso, TX

Affirmative Determinations NAFTA-TAA

NAFTA-TAA-06447; ADC Telecommunications, 5655 Eleventh Avenue East, Shakopee, MN: August 5, 2001.

NAFTA-TAA-6072; Germantown (USA) Co., West Chester, PA: March 12, 2001.

I hereby certify that the aforementioned determinations were issued during the months of January and February 2003. Copies of these determinations are available for inspection in Room C-5311, U.S. Department of Labor, 200 Constitution Avenue, NW., Washington, DC 20210 during normal business hours or will be mailed to persons who write to the above address.

Dated: February 12, 2003.
Edward A. Tomchick,
Director, Division of Trade Adjustment Assistance.

[FR Doc. 03-4270 Filed 2-21-03; 8:45 am]

BILLING CODE 4510-30-P